DEPARTMENT OF HOMELAND SECURITY

48 CFR Parts 3015, 3016, and 3052

[Docket No. DHS-2009-005]

RIN 1601-AA43

Revision of Department of Homeland Security Acquisition Regulation; Limitations on Subcontracting in Emergency Acquisitions (HSAR Case 2009-005); Withdrawal

AGENCY: Office of the Chief Procurement Officer, Department of Homeland Security (DHS).

ACTION: Notice of proposed rulemaking; withdrawal.

SUMMARY: DHS is withdrawing a proposed rule titled “Revision of Department of Homeland Security Acquisition Regulation; Limitations on Subcontracting in Emergency Acquisitions (HSAR Case 2009-005)” and providing notice of its cancellation. The notice of proposed rulemaking proposed to amend the Homeland Security Acquisition Regulation (HSAR) to implement a law that limited the use of subcontractors on cost-reimbursement type contracts entered into by the Department to facilitate the response to or recovery from a natural disaster or act of terrorism or other man-made disaster. DHS is withdrawing this proposed rule because Congress has since repealed this provision. Thus, DHS will not take any further action on this proposal.

DATES: The proposed rule published on June 9, 2010 (75 FR 32723), is withdrawn as of April 14, 2023.

ADDRESSES: Mail: Department of Homeland Security, Office of the Chief Procurement Officer, Acquisition Policy and Legislation, ATTN: Catherine Benavides, 245 Murray Drive, Bldg. 410 (RDS), Washington, DC 20528.

FOR FURTHER INFORMATION CONTACT: Ms. Catherine Benavides, Procurement Analyst, DHS, Office of the Chief Procurement Officer, Acquisition Policy and Legislation at (202) 897-8301 or email HSAR@hq.dhs.gov. When using email, include HSAR Case 2009-005 in the “Subject” line.

SUPPLEMENTARY INFORMATION: On June 9, 2010, DHS proposed to amend the HSAR, 48 CFR parts 3015, 3016, and 3052, to propose regulations to implement Public Law 109-295, Post-Katrina Emergency Management Reform Act (PKERMA), title VI, section 692, Limitations on Tiering of Subcontractors. Subsequently, title VIII, section 866 of the Duncan Hunter National Defense Authorization Act for Fiscal Year 2009 resulted in Government-wide changes to the Federal Acquisition Regulation to prevent excessive subcontracting, making section 692 unnecessary. Subsequently Congress repealed section 692 in Public Law 117-253 (December 20, 2022). Thus, DHS is withdrawing this proposed rule and will not take any further action on this proposal.

Paul Courtney,
Chief Procurement Officer, Department of Homeland Security.

[FR Doc. 2023-07674 Filed 4-13-23; 8:45 am]

BILLING CODE P